DEPARTMENT OF THE INTERIOR

Fish and Wildlife Service

50 CFR Part 17

[Docket No. FWS-R3-ES-2022-0006; FXES11130300000-223-FF03E00000]

1018-BE37

Endangered and Threatened Wildlife and Plants; Technical Corrections for Four Midwest Mussel Species

AGENCY: Fish and Wildlife Service, Interior.

ACTION: Direct final rule.

SUMMARY: We, the U.S. Fish and Wildlife Service, announce the revised taxonomy of four species of mussels under the Endangered Species Act of 1973, as amended (Act). We are revising the List of Endangered and Threatened Wildlife and related regulations under the Act to reflect the scientifically accepted taxonomy and nomenclature of these species.

DATES: This rule is effective June 15, 2022 without further action, unless significant adverse comment is received by April 18, 2022. If significant adverse comment is received, we will publish a timely withdrawal of the rule for the appropriate species in the Federal Register.

ADDRESSES: You may submit comments by one of the following methods:

(1) Electronically: Go to the Federal eRulemaking Portal: https://www.regulations.gov. In the Search box, enter FWS-R3-ES-2022-0006, which is the docket number for this rulemaking. Then, click on the Search button. On the resulting page, in the Search panel on the left side of the screen, under the Document Type heading, click on the Proposed Rule box to locate this document. You may submit a comment by clicking on “Comment.”

(2) By hard copy: Submit by U.S. mail or hand-delivery to: Public Comments Processing, Attn: FWS-R3-ES-2022-0006, U.S. Fish and Wildlife Service, MS: PRB/3W, 5275 Leesburg Pike, Falls Church, VA 22041-3803.

See Public Comments under SUPPLEMENTARY INFORMATION, below, for more information about submitting comments.

FOR FURTHER INFORMATION CONTACT: Laura Ragan, Midwest Regional Recovery Coordinator, U.S. Fish and Wildlife Service, Midwest Regional Office, 5600 American Boulevard West, Suite 990, Bloomington, MN 55437; telephone 612-713-5157; email Laura_Ragan@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Purpose of Direct Final Rule and Final Action

The purpose of this direct final rule is to notify the public that we are revising: (1) The List of Endangered and Threatened Wildlife in title 50 of the Code of Federal Regulations (CFR) at § 17.11(h) (50 CFR 17.11(h)) to reflect the scientifically accepted taxonomy and nomenclature of four freshwater mussel species listed under section 4 of the Act (16 U.S.C. 1531 et seq.). These changes reflect the most recently accepted common and scientific names in accordance with 50 CFR 17.11(b) and (c). We are also updating the nomenclature for one of the species at 50 CFR 17.85.

We are publishing this rule without a prior proposal because this is a noncontroversial action that is in the best interest of the public and should be undertaken in as timely a manner as possible. This rule will be effective, as published in this document, on the effective date specified in DATES, unless we receive significant adverse comments by the comment due date specified in DATES. Significant adverse comments are comments that provide strong justification as to why our rule should not be adopted or why it should be changed.

If we receive significant adverse comments regarding the taxonomic changes for any of these species, we will publish a document in the Federal Register withdrawing this rule for the appropriate species before the effective date, and, if appropriate, we will publish a proposed rule to initiate promulgation of those changes to 50 CFR 17.11(h).

Public Comments

You may submit your comments and materials regarding this direct final rule by one of the methods listed in ADDRESSES. Please include sufficient information with your comment that allows us to verify any scientific or commercial information you include.

We will post all comments on https://www.regulations.gov. This generally means that we will post any personal information you provide us. Before including your address, phone number, email address, or other personal information in your comment, you should be aware that your entire comment—including your personal identifying information—may be made publicly available at any time. While you can ask us in your comment to withhold your personal identifying information from public review, we cannot guarantee that we will be able to do so.

Comments and materials we receive, as well as supporting documentation we used in preparing this direct final rule, will be available for public inspection on the internet at https://www.regulations.gov or by appointment, during normal business hours at the U.S. Fish and Wildlife Service location listed above in FOR FURTHER INFORMATION CONTACT. Please note that comments posted to https://www.regulations.gov are not immediately viewable. When you submit a comment, the system receives it immediately. However, the comment will not be publicly viewable until we post it, which might not occur until several days after submission. Information regarding this rule is available in alternative formats upon request (see FOR FURTHER INFORMATION CONTACT).

Background

Sections 17.11(c) and 17.12(b) of title 50 of the CFR direct us to use the most recently accepted scientific name of any species that we have determined to be an endangered or threatened species. Using the best available scientific information, this direct final rule documents taxonomic changes of the scientific names to four entries under “Clams” on the current List of Endangered and Threatened Wildlife (“List”; 50 CFR 17.11(h)). This rule also makes slight modifications to two common names, and those changes have the result of changing the placement of these species on the List. The basis for these taxonomic changes is supported by published studies in peer-reviewed journals. Accordingly, we revise the common and scientific names of these species under section 4 of the Act (16 U.S.C. 1531 et seq.) as follows:

Species name as currently listed: Common name | Species name as currently listed: Scientific name | Corrected name for addition to the list: Common name | Corrected name for addition to the list: Scientific name
Pearlymussel, Curtis | Epioblasma florentina curtisii | Pearlymussel, Curtis | Epioblasma curtisii.
Purple cat's paw (pearlymussel) | Epioblasma obliquata obliquata | Pearlymussel, purple cat's paw | Epioblasma obliquata.
Catspaw, white (pearlymussel) | Epioblasma obliquata perobliqua | Pearlymussel, white cat's paw | Epioblasma perobliqua.
Riffleshell, northern | Epioblasma torulosa rangiana | Riffleshell, northern | Epioblasma rangiana.

Taxonomic Classification

Epioblasma Curtisii

The scientific name change of Epioblasma curtisii (Curtis pearlymussel) from Epioblasma florentina curtisii is supported by phylogenetic analyses, its distinctive shell morphology, and distinct geographical range. These findings support the elevation of curtisii from subspecies to species (Williams et al. 2017, p. 48). To the extent practicable, the Service relies on the Integrated Taxonomic Information System (ITIS) to determine a species' scientific name. ITIS incorporates the naming principles established by the International Code of Zoological Nomenclature, produced by the International Commission on Zoological Nomenclature, an organization that provides and regulates a uniform system of zoological nomenclature. While ITIS is a reliable database source of taxonomic information, in this instance ITIS is incomplete. The junior synonym, Epioblasma florentina curtisii, is considered to be invalid in ITIS. Upon review of ITIS's underlying data, we consider the information that displays the scientific name for Curtis pearlymussel to be incomplete as no valid name is provided for the species. The Service finds that the Curtis pearlymussel should be recognized as Epioblasma curtisii and is a valid listable entity. This species will continue to be listed as endangered, and no other aspect of the entry for this species in 50 CFR 17.11(h) will change as a result of this rule.

Epioblasma Obliquata

The scientific name change of Epioblasma obliquata (purple cat's paw pearlymussel) from Epioblasma obliquata obliquata is supported by phylogenetic analyses, its distinctive shell morphology, and distinct geographical range. These findings support the elevation of obliquata from subspecies to species (Williams et al. 2017, p. 48). In ITIS, Epioblasma obliquata is the accepted scientific name of purple cat's paw pearlymussel. ITIS includes an additional common name for Epioblasma obliquata, catspaw, which is recognized by species experts as an alternate common name. This species will continue to be listed as endangered, and no other aspect of the entry for this species in 50 CFR 17.11(h) will change as a result of this rule.

In addition to the listing of purple cat's paw pearlymussel in § 17.11(h), this species is also included in a rule that sets forth provisions for a nonessential experimental population of 17 mollusks in the Tennessee River at § 17.85. Therefore, we are also revising 50 CFR 17.85(a) to change the species' name in those regulations.

Epioblasma Perobliqua

The scientific name change of Epioblasma perobliqua (white cat's paw pearlymussel) from Epioblasma obliquata perobliqua is supported by phylogenetic analyses, its distinctive shell morphology, and distinct geographical range. These findings support the elevation of perobliqua from subspecies to species (Williams et al. 2017, p. 48). While the Service often relies on ITIS as a reliable database source of taxonomic information, in this instance ITIS is incomplete. The junior synonym, Epioblasma obliquata perobliqua, is considered to be invalid in ITIS. Upon review of ITIS's underlying data, we consider the information that displays the scientific name for white cat's paw pearlymussel to be incomplete as no valid name is provided for the species. ITIS includes an additional common name for white cat's paw pearlymussel, white catspaw, which is recognized by species experts as an alternate common name. The Service finds that the white cat's paw pearlymussel should be recognized as Epioblasma perobliqua and is a valid listable entity. This species will continue to be listed as endangered, and no other aspect of the entry for this species in 50 CFR 17.11(h) will change as a result of this rule.

Epioblasma Rangiana

The scientific name change of Epioblasma rangiana (northern riffleshell) from Epioblasma torulosa rangiana is supported by phylogenetic analyses and the lack of intergradation between E. t. torulosa and E. t. rangiana. These findings support the elevation of rangiana from subspecies to species (Cummings and Berlocher 1990, p. 92; Williams et al. 2017, p. 48). Epioblasma rangiana is the accepted scientific name of northern riffleshell in ITIS. This species will continue to be listed as endangered, and no other aspect of the entry for this species in 50 CFR 17.11(h) will change as a result of this rule.

References Cited

A complete list of the referenced materials is available at https://www.regulations.gov at Docket No. FWS-R3-ES-2022-0006 or upon request from the U.S. Fish and Wildlife Service (see FOR FURTHER INFORMATION CONTACT).

List of Subjects in 50 CFR Part 17

Endangered and threatened species, Exports, Imports, Reporting and recordkeeping requirements, Transportation.

Regulation Promulgation

For the reasons given in the preamble, we amend part 17, subchapter B of chapter I, title 50 of the Code of Federal Regulations, as set forth below:

PART 17—ENDANGERED AND THREATENED WILDLIFE AND PLANTS

1. The authority citation for part 17 continues to read as follows:

Authority: 16. U.S.C. 1361-1407; 1531-1544; and 4201-4245, unless otherwise noted.

2. Amend § 17.11, in paragraph (h), the List of Endangered and Threatened Wildlife, under Clams, by:

a. Removing both entries for “Purple cat's paw (pearlymussel)” and the entry for “Catspaw, white (pearlymussel)”;

b. Revising the entry for “Pearlymussel, Curtis”;

c. Adding in alphabetic order two entries for “Pearlymussel, purple cat's paw” and an entry for “Pearlymussel, white cat's paw”; and

d. Revising the entry for “Riffleshell, northern”.

The revisions and additions read as follows:

§ 17.11 Endangered and threatened wildlife.

* * * * *

(h) * * *

Common name | Scientific name | Where listed | Status | Listing citations and applicable rules
* * * * * * *
Clams
* * * * * * *
Pearlymussel, Curtis | Epioblasma curtisii | Wherever found | E | 41 FR 24062, 6/14/1976.
* * * * * * *
Pearlymussel, purple cat's paw | Epioblasma obliquata | Wherever found, except where listed as an experimental population | E | 55 FR 28209, 7/10/1990.
Pearlymussel, purple cat's paw | Epioblasma obliquata | U.S.A. (AL—specified portions of the Tennessee River; see § 17.85(a)(1)) | XN | 66 FR 32250, 6/14/2001; 50 CFR 17.85(a).10j
* * * * * * *
Pearlymussel, white cat's paw | Epioblasma perobliqua | Wherever found | E | 41 FR 24062, 6/14/1976.
* * * * * * *
Riffleshell, northern | Epioblasma rangiana | Wherever found | E | 58 FR 5638, 1/22/1993.
* * * * * * *

3. In § 17.85, in paragraph (a) introductory text, amend the table by removing the entry for “catspaw (purple cat's paw pearlymussel)” and adding in its place an entry for “purple cat's paw pearlymussel” to read as follows:

§ 17.85 Special rules—invertebrates.

(a) * * *

Common name | Scientific name
* * * * * * *
purple cat's paw pearlymussel | Epioblasma obliquata.
* * * * * * *

* * * * *

Martha Williams,
Director, U.S. Fish and Wildlife Service.

[FR Doc. 2022-05526 Filed 3-16-22; 8:45 am]

BILLING CODE 4333-15-P